NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before May 29, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@arch2.nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@arch2.nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-00-11, 2 items, 2 temporary items). Records relating to the effectiveness of training in cockpit and crew resource management skills. Records consist of forms used by instructors to collect information and correct identified deficiencies. Also included are electronic copies of records created using electronic mail and word processing.

2. Department of the Air Force, Air Force Commands (N1-342-01-1, 16 items, 10 temporary items). Records of Air Force Commands accumulated from the 1950s through the mid-1990s. Records relate to such matters as clearing medical research articles for publication, radioactive byproduct materiel license applications, radar simulation tests, projected delivery dates for electronic warfare equipment, translation service contracts, routine personnel and logistics matters, and equipment modification. Records proposed for permanent retention relate to U.S. prisoners of war in Vietnam, activities of the Air Force Advisory Group in Vietnam, Edwards Air Force Base, aerospace medical protocols, communications satellites, and unit histories.

3. Department of the Air Force, U.S. Air Force Academy (N1-AFU-01-2, 2 items, 2 temporary items). Records relating to students' academic pursuits and related activities while enrolled in the U.S. Air Force Academy Preparatory School. Electronic copies of records created using electronic mail and word processing are included.

4. Department of Health and Human Services, Food and Drug Administration (N1-88-01-1, 4 items, 2 temporary items). Electronic copies of records created using electronic mail and word processing that relate to the approval of the first oral contraceptive drug, Enovid, and to follow up reports. Recordkeeping copies of these files are proposed for permanent retention.

5. Department of the Interior, U.S. Geological Survey (N1-57-01-2, 1 item, 1 temporary item). Records relating to the use of color film for map reproduction. Records consist of composite negative or positive film.

6. Department of Justice, Tax Division (N1-60-01-1, 6 items, 4 temporary items). Hardcopy and electronic calendars, phone logs, and electronic copies of documents created using electronic mail and word processing that are accumulated in the Office of the Assistant Attorney General, Tax Division. Recordkeeping copies of policy, operations, subject, and project files are proposed for permanent retention.

7. Department of Justice, Justice Management Division. (N1-60-00-11, 3 items, 1 temporary item). Inputs for the Joint Automated Booking System which pertains to the arrest and prosecution of criminal offenders by components of the Department of Justice. Master files and documentation are proposed for permanent retention.

8. Department of Justice, Justice Management Division (N1-60-01-2, 2 items, 2 temporary items). Paper and electronic records relating to the disbursement of transportation subsidies to agency employees. Electronic copies of records created using electronic mail and word processing are included.

9. Department of Justice, Drug Enforcement Administration (N1-170-01-1, 21 items, 19 temporary items). Records accumulated in the Office of Forensic Sciences and eight regional laboratories regarding the qualitative and quantitative analysis and forensic examination of drugs. Files relate to such matters as drug evidence accountability and disposition, the latent fingerprint program, clandestine laboratory reporting, the proficiency test program, and the domestic monitoring analysis program. Also included are electronic copies of documents created using electronic mail and word processing. Recordkeeping copies of drug signature analysis files and special forensic studies are proposed for permanent retention.

10. Department of Interior, Bureau of Land Management (N1-49-96-5, 7 items, 3 temporary items). Records relating to public land improvement projects not resulting in permanent or long-term structures nor using hazardous materials. Also included are electronic copies of documents created using electronic mail and word processing that pertain to agency cartographic, architectural, engineering, and cadastral survey activities. Proposed for permanent retention are recordkeeping copies of cadastral survey records, including case files documenting original and supplemental group and mineral surveys, survey field notes and plats, and segregation and protraction diagrams.

11. Department of State, President's Interagency Council on Women (N1-59-01-6, 11 items, 9 temporary items). Materials used at public briefings, periodic management reports, contact files, and extra copies of publications. Electronic copies of documents created using electronic mail and word processing are also included. Proposed for permanent retention are recordkeeping copies of records documenting major events and meetings as well as a record set of the Council's publications.

12. Department of the Treasury, Treasury Inspector General for Tax Administration (N1-56-01-6, 22 items, 18 temporary items). Budget files, officer safety certifications, monthly performance reports, project files, correspondence, computer programming manuals, business reports, reading files, and operational review reports. Also included are reference copies of other offices' performance plans, Treasury strategic plans, and Treasury orders as well as electronic copies of documents created using electronic mail and word processing. Recordkeeping copies of semi-annual reports to Congress, directives, historical files, and operational manuals are proposed for permanent retention.

13. Department of the Treasury, Treasury Inspector General for Tax Administration (N1-56-01-8, 8 items, 5 temporary items). Chief Counsel records, including legal opinions, files relating to legislation, and litigation case files. Also included are electronic copies of documents created using electronic mail and word processing. Regulations and historically significant legal opinions and litigation case files are proposed for permanent retention.

14. Federal Emergency Management Agency, Response and Recovery Directorate (N1-311-00-1, 3 items, 3 temporary items). Records relating to customer service surveys. Included are surveys completed by applicants for agency assistance, a survey results database, and statistical and analytical reports.

Dated: April 4, 2001.
Michael J. Kurtz,
Assistant Archivist for Record Services—Washington, DC.

[FR Doc. 01-8992 Filed 4-11-01; 8:45 am]

BILLING CODE 7515-01-U